ENVIRONMENTAL PROTECTION AGENCY

40 CFR Part 52

[EPA-R10-OAR-2008-0166; FRL-8750-2]

Approval and Promulgation of Implementation Plans; Alaska; Interstate Transport of Pollution

AGENCY: Environmental Protection Agency (EPA).

ACTION: Correcting amendment.

SUMMARY: EPA issued a direct final rule on October 15, 2008, entitled “Approval and Promulgation of Implementation Plans; Alaska; Interstate Transport of Pollution.” This document makes a minor correction to the October 15, 2008, action to correct a typographical error in the regulatory text for the rule.

DATES: Effective Date: This document is effective on December 15, 2008.

FOR FURTHER INFORMATION CONTACT: For questions regarding this correction, contact Donna Deneen, Office of Air, Waste, and Toxics, Mail Code (AWT-107), Environmental Protection Agency Region 10, Seattle, WA 98121; telephone number: (206) 553-6706; fax number: (206) 553-0110; e-mail address: deneen.donna@epa.gov.

SUPPLEMENTARY INFORMATION:

Background

The EPA issued “Approval and Promulgation of Implementation Plans; Alaska; Interstate Transport of Pollution” as a direct final rule on October 15, 2008, 73 FR 60955. This direct final rule approved the State of Alaska's demonstration that its emissions do not significantly contribute to nonattainment or interfere with maintenance of the NAAQS in another state, or interfere with measures required to be included in the SIP for any other State to prevent significant deterioration of air quality or to protect visibility. For more information about this action, please see the proposed and final rulemaking actions which are available at www.regulations.gov and also in the Federal Register at 73 FR 60955 and 73 FR 60996.

Need for Correction

As published, the regulatory text in the direct final regulation contains a minor error that, if not corrected, prevents publication of the regulatory amendment in the Code of Federal Regulations. EPA finds that there is good cause to make this correction without providing for notice and comment because neither notice nor comment is necessary and would not be in the public interest due to the nature of the correction which is minor, technical and does not change the obligations already existing in the rule. EPA finds that the corrections are merely correcting the numbering in the amendatory language so that the provision may be published in the Code of Federal Regulations.

Corrections of Publication

In the regulatory text to the direct final rule for “Approval and Promulgation of Implementation Plans; Alaska; Interstate Transport of Pollution,” October 15, 2008, 73 FR 60955, EPA is correcting an inadvertent minor error in instruction number 2. Instruction number 2 reads “Section 52.97 is added to read as follows:”, but in the actual text just below that statement the added section is designated inadvertently as “Section 52.70.” EPA is correcting this inadvertent minor error so that the amendatory instruction number 2 continues to read “Section 52.97 is added to read as follows:”, but the actual text just below that statement “§ 52.70” is changed to read “§ 52.97.”

§ 52.97 [Corrected]

In FR Doc. E8-24279 published October 15, 2008 (73 FR 60955), make the following correction. On page 60957, in the center column, the section heading following amendatory instruction 2 is corrected to read as follows:

§ 52.97 Interstate Transport for the 1997 8-hour ozone and PM2.5 NAAQS.

* * * * *

Dated: December 3, 2008.
Elin D. Miller,
Regional Administrator, Region 10.

[FR Doc. E8-29231 Filed 12-11-08; 8:45 am]

BILLING CODE 6560-50-P